DEPARTMENT OF AGRICULTURE

Foreign Agricultural Service

Fiscal Year 2000 Emerging Markets Program and Solicitation of Private Sector Proposals

AGENCY: Foreign Agricultural Service, USDA.

ACTION: Notice.

SUMMARY: The Foreign Agricultural Service (FAS) invites proposals for using technical assistance to promote the export of, and improve the market access for, U.S. agricultural products to emerging markets in fiscal year (FY) 2000 under the Emerging Markets Program (the Program).

DEADLINE: All proposals must be received by 5:00 p.m. Eastern Standard Time, March 13, 2000.

FOR FURTHER INFORMATION CONTACT: Requests for program guidelines and additional information may be obtained from, and proposals submitted to: Emerging Markets Office, Foreign Agricultural Service, Room 6506 South Building, U.S. Department of Agriculture, Washington, D.C. 20250-1032, Fax: (202) 690-4369, E-mail: emo@fas.usda.gov. It is strongly recommended that any U.S. organization considering applying to the Program for FY 2000 funding assistance first obtain a copy of the 2000 Emerging Markets Program Guidelines. The guidelines are also available on the FAS Home Page on the Internet: http:/www.fas.usda.gov/excredits/em-markets/em-markets.html.

The FAS issued a Federal Register notice on January 3, 2000, announcing the availability of funding for the Market Access Program (MAP) and the Foreign Market Development (FMD) (Cooperator) Program, and encouraging applicants to these programs to use the Unified Export Strategy (UES) format. Some applicants may also wish to use the UES format in order to apply to the Emerging Markets Program.

SUPPLEMENTARY INFORMATION:

Introduction

The Program is authorized by section 1542(d)(1)(D) of the Food, Agriculture, Conservation, and Trade Act of 1990. Up to $10 million is available to fund the Program each fiscal year. The purpose of the Program is to assist U.S. organizations, public and private, to improve market access and to develop and promote U.S. agricultural products or processes in low- to-middle-income countries that offer promise of emerging market opportunities in the near- to medium-term. This is to be accomplished by providing U.S. technical assistance through projects and activities in those emerging markets.

The Act defines an emerging market as any country that the Secretary of Agriculture determines:

(1) Is taking steps toward a market-oriented economy through the food, agriculture, or rural business sectors of the economy of the country; and

(2) Has the potential to provide a viable and significant market for United States agricultural commodities or products of United States agricultural commodities.

Program Priorities

Because funds are limited and the range of potential emerging market countries is worldwide, proposals will be considered which focus on those countries which meet the above definition and have (1) a per capita income less than $9,360 (the ceiling on upper middle income economies as determined by the World Bank [World Development Indicators 1999]; and (2) a population greater than 1 million. These categories may encompass suitable regional groupings, e.g., the islands of the Caribbean Basin. (Consult the 2000 Emerging Markets Program Guidelines available from the contact and address identified above for further information.)

The underlying premise of the Program is that there are distinctive characteristics of emerging agricultural markets that necessitate or benefit significantly from technical assistance through the public sector before the private sector moves to develop these markets through normal corporate or trade promotional activities. The emphasis of the program is on funding, on a project-by-project basis, marketing opportunities which involve risks that the private sector would not normally undertake alone. The Program complements the efforts of other FAS marketing programs. Once a market access issue has been addressed by this Program, further market development activities may be considered under other programs such as GSM-102 or GSM-103 credit guarantee programs, the Facilities Guarantee Program, the Suppliers' Guarantee Program, the MAP, the FMD Programs, or the section 108 foreign currency program.

Any United States agricultural or agribusiness organization, university, or state department of agriculture, is eligible to participate in the Program. Proposals from research and consulting organizations will be considered if they provide evidence of substantial participation by U.S. industry.

In general, priority consideration will be given to those proposals that identify and seek to address specific problems or constraints in rural business systems or food and agribusiness systems in emerging markets through technical assistance to expand or maintain U.S. agricultural exports.

The following marketing criteria will be used to determine the suitability of projects for funding by the Program:

1. Low U.S. market share and significant market potential.

• Is there a significant lag in U.S. market share of a specific commodity in a given country or countries?

• Is there an identifiable obstacle or competitive disadvantage facing U.S. exporters (e.g., competitor financing, subsidy, competitor market development activity) or systemic obstacle to imports of U.S. products (e.g., inadequate distribution, infrastructure impediments, insufficient information, lack of financing options or resources)?

• What is the potential of a project to generate a significant increase in U.S. agricultural exports in the near- to medium-term? (Estimates or projections of trade benefits to commodity exports, and the basis for evaluating such, must be included in proposals submitted to the Program.)

2. Recent change in a market.

• Is there, for example, a change in a sanitary or phytosanitary trade barrier; a change in an import regime or the lifting of a trade embargo; a shift in the political or financial situation in a country?

Content of Proposal

CCC will also review the following information, which should be included in the proposal, in considering the suitability of projects. (1) Cost-sharing: Information indicating the willingness of private agribusiness to commit its own funds along with those of the Program to seek export business in an emerging market. The Program is intended to complement, not supplant, the efforts of the U.S. private sector. The percentage of private funding proposed for a project will therefore be a critical factor in determining which proposals are funded under the Program. While no minimum or maximum is specified, the absolute amount of private sector funding proposed may also affect the decision to fund a proposal. Cost-sharing provided by private industry may be professional time of staff assigned to the project or actual cash invested in the proposed project. However, proposals in which private industry is willing to commit actual funds, rather than contributing such in-kind items as staff resources, will be given priority consideration. (2) Market Analysis and Statement of Specific Benefit(s) to U.S. Exports: A brief underlying analysis of the target market which supports the objectives of the proposed project and the benefits that can be expected to accrue to U.S. commodity exports as a result of successful completion of the project. (3) Justification for Federal Funding: A clearly stated argument supporting the need for Program funding.

For additional details that should be included in each application, see “Submissions” below.

Priority Considerations

The following subject areas for technical assistance activities to promote markets for U.S. agricultural product exports will be given priority consideration for funding under the Program:

—Projects and activities which use technical assistance designed specifically to improve market access in emerging foreign markets. Examples: activities intended to mitigate the impact of sudden political events or economic and currency crises in order to maintain U.S. market share; responses to time-sensitive market opportunities;

—Marketing and distribution of more value-added products, including new products or uses. Examples: food service development; market research on potential for consumer-ready foods or new uses of a product;

—Studies of food distribution channels in emerging markets, including infrastructural impediments to U.S. exports; such studies may include cross-commodity activities which focus on problems, e.g., distribution, which affect more than one industry. Examples: grain storage handling and inventory systems development; distribution infrastructure development;

—Projects that specifically address various constraints to U.S. exports, including sanitary and phytosanitary issues and other non-tariff barriers. Examples: seminars on U.S. food safety standards and regulations; assessing and addressing pest and disease problems that inhibit U.S. product exports;

—Assessments and follow up activities designed to improve country-wide food and business systems, to reduce trade barriers, to increase prospects for U.S. trade and investment in emerging markets, and to determine the potential use for general export credit guarantees, including especially the Facilities Guarantee Program, for commodities, facilities and services. Examples: product needs assessments and market analysis; assessments for using facilities credits to address infrastructural impediments;

—Projects that help foreign governments to collect and use market information and to develop free trade policies that benefit American exporters as well as the target country or countries. Examples: agricultural statistical analysis; development of market information systems; policy analysis;

—Short-term training in broad aspects of agriculture and agribusiness trade that will benefit U.S. exporters, including seminars and training at trade shows designed to expand the potential for U.S. agricultural exports by focusing on the trading system. Examples: retail training; marketing seminars; transportation seminars; training keyed to opening new or expanding existing markets

.

Retail Training: U.S. organizations which may be interested in applying for funding assistance to support retail training are urged to review a data base of FAS-supported activities on this topic so to avoid possible duplication and/or overlap of training in similar markets or on similar commodities. The data base will be available on the FAS Internet web site by mid-January 2000.

Projects which promote markets for any agricultural products, except tobacco, are eligible for consideration. Projects which include multiple commodities are also eligible.

Ineligible activities include in-store promotions; restaurant promotions; branded product promotions (including labeling and supplementing normal company sales activities intended to increase awareness and stimulate sales of branded products); advertising; administrative and operational expenses for trade shows; and for the preparation and printing of brochures, flyers, posters, etc. except in connection with specific technical assistance activities such as training seminars.

Funding of Proposals

Funding for technical assistance projects is made on the basis of proposals to the Emerging Markets Office (EMO). In general, each proposal submitted in response to this announcement will compete against all such proposals received under the same announcement. Proposals will be judged not only on their ability to provide benefits to the organization receiving Program funds, but which also represent the broader interests of the industry which that organization represents.

The limited funds of the Program and the range of emerging markets worldwide in which the funds may be used preclude EMO from approving large budgets for single projects. The Program is intended to provide appropriate USDA assistance to projects which also have a significant amount of financial contributions from other sources, especially U.S. private industry. There is no minimum or maximum amount set for EMO-funded projects; however, most are funded at the level of less than $500,000 and for a duration of 1 year or less. Funding is normally made available on a cost-reimbursable basis.

Multi-Year Proposals

These may be considered in the context of a strategic plan and detailed plan of implementation. Funding in such cases is normally provided 1 year at a time, with commitments beyond the first year subject to interim evaluations.

Projects Already in Progress

Funding may be considered for technical assistance projects that have already begun with the support and financial assistance of a private entity, and for which government funding for continuation of the project is requested. Such proposals must meet the criteria of the Program, including cost-sharing for the portion of the project for which government funding is requested. Note: While this announcement solicits proposals from private U.S. agricultural organizations for consideration and funding on a competitive basis, the EMO may also consider proposals on an accelerated basis depending upon the technical and time requirements of the proposal. If approved, such proposals would be covered through the Technical Issues Resolution Fund or the Quick Response Market Fund. For details concerning these specialty funds, see the program guidelines.

Project Reports

Results of all projects supported financially by the Program must be reported in a performance report to EMO. Because public funds are used to support the project, these reports will be made available to the public by the EMO.

Submissions

To assist FAS in making determinations under the Program, FAS recommends that all proposals contain complete information about the proposed project and that the proposals not be longer than 10 pages. The recommended information includes: name of person/organization submitting proposal; date of proposal; organization affiliation and address; telephone and fax numbers; full title of proposal; precis of the proposal, including objectives, proposed activities, benefits to U.S. agricultural exports, target country/countries for proposed activities, projected starting date for project, and funding amount requested; summary and detailed description of proposed project; statement of problem (specific trade constraint) to be addressed through the proposed project; benefits to U.S. agricultural exports as a result of the proposed project, including specific performance measures; supporting market analysis of the target market(s)—brief economic analysis for each commodity and country, including current market conditions and relevant trade data—and existing percentage of U.S. export market share, and the basis or source(s) for this data; information on whether similar activities are or have previously been funded in target country/countries (e.g., under MAP and/or FMD programs); a clearly stated explanation as to why participating organization(s) are unlikely to carry out activities without Federal financial assistance; time line(s) for project implementation; detailed project budget, including other sources of funding for the project and contributions from participating organizations (additional requirements are contained in the program guidelines); Federal tax ID number of the responsible organization. Qualifications of applicant(s) should be included, as an attachment.

Proposals must be submitted in both printed form and on computer diskette, using WordPerfect or Word or compatible format.

Signed at Washington, D.C. on January 14, 2000.
Timothy J. Galvin,
Administrator, Foreign Agricultural Service, and Vice President, Commodity Credit Corporation.

[FR Doc. 00-1704 Filed 1-24-00; 8:45 am]

BILLING CODE 3410-10-M